DEPARTMENT OF TRANSPORTATION

Office of the Secretary

Notice of Applications for Certificates of Public Convenience and Necessity and Foreign Air Carrier Permits Filed Under Subpart B (Formerly Subpart Q) During the Week Ending March 31, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0047.

Date Filed: March 27, 2012.

Due Date for Answers, Conforming Applications, or Motion To Modify Scope: April 17, 2012.

Description

Application of Joint Stock Company Aircompany “Yakutia” (“Yakutia”) requesting an exemption and a foreign air carrier permit authorizing Yakutia to engage in scheduled foreign air transportation of persons, property, and mail between any point or points in the Russian Federation and any point or points in Alaska. Yakutia further requests that its exemption and permit authorize it to engage in charter foreign air transportation of persons, property and mail between any point or points in the Russian Federation and any point or points in the United States and to conduct other charter trips in foreign air transportation.

Renee V. Wright,
Program Manager, Docket Operations, Federal Register Liaison.

[FR Doc. 2012-11281 Filed 5-10-12; 8:45 am]

BILLING CODE 4910-9X-P